ENVIRONMENTAL PROTECTION AGENCY

[ER-FRL-9025-5]

Environmental Impact Statements; Notice of Availability

Responsible Agency: Office of Federal Activities, General Information (202) 564-7146 or http://www2.epa.gov/nepa.

Weekly receipt of Environmental Impact Statements (EISs), Filed 02/01/2016 Through 02/05/2016, Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20160028, Final, FHWA, WI, I-94 East-West Corridor (70th St—16th St) Project, Review Period Ends: 03/14/2016, Contact: Michael Davies, 608-829-7500.

EIS No. 20160029, Final, BPA, WA, I-5 Corridor Reinforcement Project, Review Period Ends: 03/14/2016, Contact: Nancy A. Wittpenn 503-230-3297.

Amended Notices

EIS No. 20150346, Draft, OSM, TN, North Cumberland Wildlife Management Area, Tennessee, Lands Unsuitable for Mining, Comment Period Ends: 02/26/2016, Contact: Earl Bandy 865-545-4103 ext. 130, Revision to FR Notice Published 12/11/2015; OSM reopened the comment period that ended 01/025/2016 and extended to 02/26/2016.

Dated: February 9, 2016.
Dawn Roberts,
Management Analyst, NEPA Compliance Division, Office of Federal Activities.

[FR Doc. 2016-02937 Filed 2-11-16; 8:45 am]

BILLING CODE 6560-50-P